DEPARTMENT OF HEALTH AND HUMAN SERVICES

Centers for Disease Control and Prevention

[60Day-08-0706]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Program of Cancer Registries Program Evaluation Instrument (NPCR-PEI)—Revision—National Center for Chronic Disease Prevention and Health Promotion (NCCDPHP), Centers for Disease Control and Prevention (CDC).

Background and Brief Description

CDC is responsible for administering and monitoring the National Program of Cancer Registries (NPCR). The NPCR provides technical assistance and funding and sets program standards to assure that complete local, state, regional, and national cancer incidence data are available for national and state cancer control and prevention activities and health planning activities. As of 2008, CDC supports 49 population-based central cancer registries (CCR) in 45 states, two territories, the District of Columbia, and the Pacific Islands. The National Cancer Institute supports the operations of CCRs in the five remaining states.

Cancer registries currently submit information about registry operations to CDC on an annual basis via a secure, web-based Annual Program Evaluation Instrument (APEI) (OMB 0920-0706, exp. 12/31/2008). During the next OMB approval period, CDC proposes to change the data collection frequency from annual to every other year, with data collection occurring only in odd-numbered years. This change will reduce burden to respondents. The project title and the instrument will be revised to reflect the change in data collection frequency (from National Program of Cancer Registries Annual Program Evaluation Instrument (NPCR-APEI) to National Program of Cancer Registries Program Evaluation Instrument (NPCR-PEI)).

The Program Evaluation Instrument (NCPR-PEI) includes questions about the following categories of registry operations: (1) Staffing, (2) legislation, (3) administration, (4) reporting completeness, (5) data exchange, (6) data content and format, (7) data quality assurance, (8) data use, (9) collaborative relationships, (10) advanced activities, (11) “success stories” that summarize ways in which CCR data are used, and (12) survey feedback. Examples of information that can be obtained from various questions include, but are not limited to: (1) Number of filled full-time staff positions by position responsibility; (2) legislation protecting the confidentiality of CCR data; (3) data quality control activities; (4) data collection activities as they relate to achieving NPCR standards for data completeness; and (5) whether or not registry data are used for comprehensive cancer control programs, needs assessment/program planning, clinical studies, or incidence and mortality estimates.

The NPCR-PEI is needed in order to receive, process, evaluate, aggregate, and disseminate NPCR program information. The information is used by CDC and the NPCR-funded registries to monitor progress toward meeting established program standards, goals, and objectives; to evaluate various attributes of the registries funded by NPCR; and to respond to data inquiries made by CDC and other agencies of the federal government.

CDC requests OMB approval for a period of three years to collect information in the summer of 2009 and the summer of 2011. There are no costs to respondents except their time.

The estimated annualized burden hours are summarized in the table below.

Estimated Annualized Burden Hours
Respondents | Number of respondents | Number of responses per respondent | Average burden per response (in hours) | Total burden (in hours)
NPCR Grantees | 33 | 1 | 1.5 | 50

Dated: June 13, 2008.
Maryam I. Daneshvar,
Acting Reports Clearance Officer, Centers for Disease Control and Prevention.

[FR Doc. E8-14152 Filed 6-20-08; 8:45 am]

BILLING CODE 4163-18-P